DEPARTMENT OF THE INTERIOR

Bureau of Land Management

[LLNVS00000.L51010000.FX0000.21X; N-89655; MO# 4500153967]

Notice of Segregation of Public Land for the Copper Rays Solar Project, Nye County, Nevada

AGENCY: Bureau of Land Management, Department of Interior.

ACTION: Notice of segregation.

SUMMARY: Through this notice the Bureau of Land Management (BLM) is segregating public lands included in the right-of-way application for the Copper Rays Solar Project, from appropriation under the public land laws, including the Mining Law, but not the Mineral Leasing or Material Sales Acts, for a period of 2 years from the date of publication of this notice, subject to valid existing rights. This segregation is to allow for the orderly administration of the public lands to facilitate consideration of development of renewable energy resources. The public lands segregated by this notice total 5,518.18 acres.

DATES: This segregation for the lands identified in this notice is effective on October 21, 2021.

FOR FURTHER INFORMATION CONTACT: For further information and/or to have your name added to the mailing list, send requests to: Beth Ransel, Southern Nevada District Energy & Infrastructure Team, at telephone (702) 515-5284; address 4701 North Torrey Pines Drive, Las Vegas, NV 89130-2301; or email BLM_NV_SND_EnergyProjects@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: Regulations found at 43 CFR 2091.3-1(e) and 2804.25(f) allow the BLM to temporarily segregate public lands within a right-of-way application area for solar energy development from the operation of the public land laws, including the Mining Law, by publication of a Federal Register notice. The BLM uses this temporary segregation authority to preserve its ability to approve, approve with modifications, or deny proposed rights-of-way, and to facilitate the orderly administration of the public lands. This temporary segregation is subject to valid existing rights, including existing mining claims located before this segregation notice. Licenses, permits, cooperative agreements, or discretionary land use authorizations of a temporary nature which would not impact lands identified in this notice may be allowed with the approval of an authorized officer of the BLM during the segregation period. The lands segregated under this notice are legally described as follows:

Mount Diablo Meridian, Nevada

T. 20 S., R. 54 E.,

Sec. 35, S½SW¼SW¼.

T. 21 S., R. 54 E.,

Sec. 1, SW¼NW¼ and W½SW¼;

Sec. 2, lot 8;

Sec. 12, W½NW¼ and W½SW¼;

Sec. 13, W½NW¼, S½SW¼, S½NW¼SW¼, S½NE¼SW¼, S½SE¼, NW¼NW¼SW¼, S½NW¼SE¼, and S½NE¼SE¼;

Sec. 14, S½NE¼SE¼, SE¼SE¼, E½SW¼SE¼, and SE¼NW¼SE¼;

Sec. 23, E½;

Sec. 24;

Sec. 25;

Sec. 26, E½NW¼NE¼, E½NE¼, SW¼NE¼, and S½;

Sec. 35;

Sec. 36.

T. 22 S., R. 54 E.,

Sec. 1;

Sec. 2.

T. 21 S., R. 55 E.,

Sec. 18, lot 3.

The area described contains 5,518.18 acres, according to the official plats of the surveys of the lands on file with the BLM.

As provided in the regulations, the segregation of lands in this notice will not exceed 2 years from the date of publication unless extended for an additional 2 years through publication of a new notice in the Federal Register. The segregation period will terminate and the land will automatically reopen to appropriation under the public land laws, including the mining laws, at the earliest of the following dates: Upon issuance of a decision by the authorized officer granting, granting with modifications, or denying the application for a right-of-way; without further administrative action at the end of the segregation provided for in the Federal Register notice initiating the segregation; or upon publication of a Federal Register notice terminating the segregation.

Upon termination of the segregation of these lands, all lands subject to this segregation would automatically reopen to appropriation under the public land laws, including the mining laws.

(Authority: 43 CFR 2091.3-1(e) and 43 CFR 2804.25(f))

Nicholas Pay,
Field Manager—Pahrump Field Office.

[FR Doc. 2021-22886 Filed 10-20-21; 8:45 am]

BILLING CODE 4310-HC-P